U.S.-CHINA ECONOMIC AND SECURITY REVIEW COMMISSION

Notice of Open Public Hearing

AGENCY: U.S.-China Economic and Security Review Commission.

ACTION: Notice of open public hearing—January 26, 2012, Washington, DC.

SUMMARY: Notice is hereby given of the following hearing of the U.S.-China Economic and Security Review Commission.

Name: Dennis Shea, Chairman of the U.S.-China Economic and Security Review Commission.

The Commission is mandated by Congress to investigate, assess, and report to Congress annually on “the national security implications of the economic relationship between the United States and the People's Republic of China.”

Pursuant to this mandate, the Commission will hold a public hearing in Washington, DC on January 26, 2012, to address “China's Global Quest for Resources and Implications for the United States.”

Background: This is the first public hearing the Commission will hold during its 2012 report cycle to collect input from leading academic, industry, and government experts on national security implications of the U.S. bilateral trade and economic relationship with China. The January 26 hearing will examine China's Global Quest for Resources and Implications for the United States. The hearing will be co-chaired by Commissioners Richard D'Amato and Daniel Blumenthal.

Any interested party may file a written statement by January 26, 2012, by mailing to the contact below. A portion of each panel will include a question and answer period between the Commissioners and the witnesses.

Transcripts of past Commission public hearings may be obtained from the USCC Web Site www.uscc.gov.

Date and Time: Thursday, January 26, 8:30am—3:00pm Eastern Standard Time. A detailed agenda for the hearing and roundtable will be posted to the Commission's Web Site at www.uscc.gov as soon as available. Please check the Web site for possible changes to the hearing schedule.

ADDRESSES: The hearing will be held on in Room 562 of the Dirksen Senate Office Building, located at Constitution Avenue and 1st Street NE., in Washington, DC 20002.

FOR FURTHER INFORMATION CONTACT: Any member of the public seeking further information concerning the hearing should contact Michael Danis, Executive Director for the U.S.-China Economic and Security Review Commission, 444 North Capitol Street NW., Suite 602, Washington DC 20001; phone: (202) 624-1407, or via email at contact@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: January 9, 2012.
Michael Danis,
Executive Director, U.S.-China Economic and Security Review Commission.

[FR Doc. 2012-497 Filed 1-12-12; 8:45 am]

BILLING CODE 1137-00-P